DEPARTMENT OF DEFENSE

Office of the Secretary

[Transmittal No. 17-32]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107 or Kathy Valadez, (703) 697-9217; DSCA/DSA-RAN.

SUPPLEMENTARY INFORMATION: This 36(b)(1) arms sales notification is published to fulfill the requirements of section 155 of Public Law 104-164 dated July 21, 1996. The following is a copy of a letter to the Speaker of the House of Representatives, Transmittal 17-32 with attached Policy Justification and Sensitivity of Technology.

Dated: August 23, 2017.
Aaron Siegel,
Alternate OSD Federal Register Liaison Officer, Department of Defense.

BILLING CODE 5001-06-P

BILLING CODE 5001-06-C

Transmittal No. 17-32

Notice of Proposed Issuance of Letter of Offer Pursuant to Section 36(b)(1) of the Arms Export Control Act, as amended

(i) Prospective Purchaser: The Government of Thailand

(ii) Total Estimated Value:

Major Defense Equipment * | $23.2 million
Other | $ 1.7 million
Total | $24.9 million

(iii) Description and Quantity or Quantities of Articles or Services under Consideration for Purchase:

Major Defense Equipment (MDE):

Five (5) RGM-84L Harpoon Block II Surface Launched Missiles

One (1) RTM-84L Harpoon Block II Exercise Missile

Non-MDE includes: Also included are containers, spare and repair parts, support and test equipment, publications and technical documentation, personnel training and training equipment, U.S. Government and contractor representatives technical assistance, engineering and logistics support services, and other related elements of logistics and program support.

(iv) Military Department: Navy (XX-P-AKR)

(v) Prior Related Cases, if any: TH-P-AKP

(vi) Sales Commission, Fee, etc., Paid, Offered, or Agreed to be Paid: None

(vii) Sensitivity of Technology Contained in the Defense Article or Defense Services Proposed to be Sold: See Attached Annex

(viii) Date Report Delivered to Congress: August 9, 2017

*As defined in Section 47(6) of the Arms Export Control Act.

POLICY JUSTIFICATION

Government of Thailand—RGM-84L Harpoon Surface Launched Block II Missiles

The Government of Thailand has requested the possible sale of up to five (5) RGM-84L Harpoon Block II Surface Launched Missiles and one (1) RTM-84L Harpoon Block II Exercise Missile. Also included are containers, spare and repair parts, support and test equipment, publications and technical documentation, personnel training and training equipment, U.S. Government and contractor representatives technical assistance, engineering and logistics support services, and other related elements of logistics and program support. The estimated cost is $24.9 million.

This proposed sale will contribute to the foreign policy and national security of the United States by helping to strengthen the U.S.-Thai strategic relationship and to improve the security of an important partner.

The proposed sale will provide enhanced capabilities in effective defense of critical sea lines. Thailand intends to use the missiles on its DW3000 Class Frigate. The proposed sale of the Harpoon Block II missiles and support will increase the Royal Thai Navy's maritime partnership potential. Thailand has purchased Harpoon missiles previously and will have no difficulty absorbing these missiles into its armed forces.

The proposed sale will not alter the basic military balance in the region.

The principal contractor will be the Boeing Company, St. Louis, MO. There are no known offset agreements proposed in connection with this potential sale.

Implementation of this proposed sale will require annual trips to Thailand involving U.S. Government personnel and contractor representatives for technical reviews, support, and oversight for approximately five years.

There will be no adverse impact on U.S. defense readiness as a result of this proposed sale.

Transmittal No. 17-32

Notice of Proposed Issuance of Letter of Offer Pursuant to Section 36(b)(1) of the Arms Export Control Act

Annex

Item No. vii

(vii) Sensitivity of Technology:

1. The RGM-84L Harpoon Surface Launched Block II missile system, to include publications, documentation, operations, supply, maintenance, and training to be conveyed with this proposed sale have the highest classification level of CONFIDENTIAL. The Harpoon Block II missile is a non-nuclear tactical weapon system currently in service in the U.S. Navy and in 29 other foreign nations. It provides a day, night, and adverse weather, standoff surface-to-surface capability and is an effective Anti-Surface Warfare missile. The RGM-84L incorporates components, software, and technical design information that are considered sensitive.

2. The following components being conveyed by the proposed sale are considered sensitive and are classified CONFIDENTIAL:

a. The Radar Seeker

b. The GPS/INS System

c. Operational Flight Program Software

d. Missile operational characteristics and performance data

These elements are essential for the Harpoon Block II missile to selectively engage hostile targets under a wide range of operational, tactical and environmental conditions. With respect to GPS, Thailand has been approved for Precision Positioning Service (PPS).

3. If a technologically advanced adversary were to obtain knowledge of the specific hardware and software elements, the information could be used to develop countermeasures or equivalent systems which might reduce weapon system effectiveness or be used in the development of a system with similar or advanced capabilities.

4. A determination has been made that the Government of Thailand can provide substantially the same degree of protection for the sensitive technology being released as the U.S. Government. This proposed sale is necessary to the furtherance of the U.S. foreign policy and national security objectives outlined in the Policy Justification. Moreover, the benefits to be derived from this sale, as outlined in the Policy Justification, outweigh the potential damage that could result if the sensitive technology were revealed to unauthorized persons.

5. All defense articles and services listed in this transmittal are authorized for release and export to the Government of Thailand.

[FR Doc. 2017-18191 Filed 8-25-17; 8:45 am]

BILLING CODE 5001-06-P